DEPARTMENT OF THE INTERIOR

Bureau of Land Management

[LLORV00000.L10200000.DD0000; HAG 11-0229]

Notice of Public Meeting, Southeast Oregon Resource Advisory Council

AGENCY: Bureau of Land Management, Interior.

ACTION: Notice of public meeting.

SUMMARY: Pursuant to the Federal Land Policy and Management Act and the Federal Advisory Committee Act, the U.S. Department of the Interior, Bureau of Land Management (BLM) Southeast Oregon Resource Advisory Council (SEORAC) will meet as indicated below.

DATES: The meeting will be held on June 14, 2011 and June 15, 2011.

ADDRESSES: The meeting will take place at the Holiday Inn Express, 212 SE. 10th Street, Ontario, Oregon 97914.

FOR FURTHER INFORMATION CONTACT: Mark Wilkening, 100 Oregon Street, Vale, Oregon 97918, (541) 473-6218 or e-mail mark_wilkening@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The meeting will be held on June 14 and June 15, 2011, at the Holiday Inn Express Conference Room, 212 SE. 10th Street, Ontario, Oregon. On June 14, the meeting will be held from 8 a.m. to 4 p.m. Mountain Daylight Time. On June 15, the meeting will be held from 8 a.m. to 12 p.m. Mountain Daylight Time. The meeting may include such topics as defining the SEORAC's role on the BLM Vegetation Environmental Impact Statement step-down to the Vale District treatments options; update on the Neil Hotsprings Geothermal project, an update on the proposed Owyhee Pump Storage project, a presentation by Vale District specialists to better understand the current conditions that exist in the Owyhee Canyon area, large mining operations on the Vale District, election of officers, report by the Federal managers on litigation, energy projects, and other issues affecting their districts; and other matters as may reasonably come before the Council. The public is welcome to attend all portions of the meeting and may make oral comments to the Council at 1 p.m. on June 14, 2011. Those who verbally address the SEORAC are asked to provide a written statement of their comments or presentation. Unless otherwise approved by the SEORAC Chair, the public comment period will last no longer than 15 minutes, and each speaker may address the SEORAC for a maximum of five minutes. If reasonable accommodation is required, please contact the BLM Vale District Office at (541) 473-6218 as soon as possible.

Larry Frazier,
Vale Assistant District Manager.

[FR Doc. 2011-13159 Filed 5-26-11; 8:45 am]

BILLING CODE 4310-33-P